DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project

Substance Abuse Prevention and Treatment (SAPT) Block Grant Application Guidance and Instructions, FY 2005—2007 (OMB No. 0930-0080, Revision)—Sections 1921 through 1935 of the Public Health Service Act (U.S.C. 300x-21 to 300x-35) provide for annual allotments to assist States to plan, carry out, and evaluate activities to prevent and treat substance abuse and for related activities. Under the provisions of the law, States may receive allotments only after an application is submitted and approved by the Secretary, DHHS. For the Federal fiscal year 2005-2007 SAPT Block Grant application cycles, the Substance Abuse and Mental Health Services Administration (SAMHSA) will provide States with revised application guidance and instructions to implement changes made by 42 U.S.C. 290kk and 42 U.S.C. 300x-65, implemented by 45 CFR part 54 and 45 CFR 96.122(f)(5), and the recommendations of the Office of Management and Budget's Program Assessment Rating Tool (PART) analysis of the SAPT Block Grant program.

Revisions to the previously-approved application resulting from the authorizing legislation, new regulation, and PART analysis reflect the following changes: (1) In Section I, the Funding Agreements/Certifications (Form 3) are being amended to include the requirement of 42 U.S.C. 300x-65 and 45 CFR part 54 ; (2) In Section II.2, the annual report and plan includes a new reporting requirement, Goal #17, “Services Provided By Non-Governmental Organizations,” and Attachment J, “Charitable Choice Notice to Program Beneficiaries.” In Section II.4, the “Treatment Utilization Matrix (Form 7),” is being replaced with the “Treatment Utilization Matrix (Form 7A),” which includes clarification in its column headings to improve collection of number of persons served and the average cost of services for each modality. A column has been added to collect information on the number of State approved facilities in each level or category of service to facilitate understanding of the States' capacities. The information on number of persons served and treatment costs is being collected in response to the OMB PART analysis of the SAPT Block Grant. Form 7A replaces “Number of Persons Served (Form P1),” that appeared in Section IV-A, “Voluntary Treatment Performance Measures.” A new Form 7B, “Number of Persons Served (Unduplicated Count) of Persons Served for Alcohol and Other Drug Use in State Funded Services,” has been added to collect treatment utilization data by age, gender, and race/ethnicity in order to facilitate comparisons with the currently collected Forms 8 and 9. In Section III.7, the “Purchasing Services Checklist(s)” has been revised to include information on competitive and non-competitive contracts as well as information on the estimated percent of clients served and estimated percent of SAPT Block Grant expenditures.

In Section IV-A, “Voluntary Treatment Performance Measures,” the “Number of Persons Served (Form P1)” has been revised and renamed as described in Section II.4. Form P2, “Employment Status,” Form P3, “Living Status,” Form P4 “Criminal Activity,” and Form P5, Alcohol Use,” have been renamed Form T2 through T5, respectively. Form P6, “Marijuana Use,” Form P7, “Cocaine Use, “ Form P8, “Amphetamine Use,” and P9, “Opiate Use,” have been replaced by Form T6, “Other Drug Use.” Form T-7, “Infectious Disease Performance Measure,” is a checklist to determine the degree to which the Single State Agency provides and/or coordinates delivery of appropriate infection control practices within its service system for substance abuse treatment and prevention services. Form T-8, “Social Support for Recovery,” and Form T-9, “Retention,” were added to encourage States to report performance and outcome data consistent with SAMHSA's proposed performance measures. Each of the voluntary treatment performance measure forms (T2-T6, T8-T9) includes a corresponding detail sheet (checklist) in which States will be asked to identify the source(s) of the performance data used and, if unable to provide such data, the State will be asked to identify the reason(s) why such data are unavailable. The accompanying detail sheets (checklists) will provide SAMHSA with a description of the States' data reporting capabilities and will provide SAMHSA with a baseline for determining the States' technical assistance needs with regard to data collection, analysis, and reporting.

In Section IV-B, “Voluntary Prevention Performance Measures (Forms P10-P13),” have been renumbered P1-P7.

Annual Reporting Burden
| Number of respondents | Responses per respondent | Hours per response | Total burden
Sections I-III—States and Territories | 60 | 1 | 502 | 30,120
Section IV-A | 40 | 1 | 50 | 2,000
Section IV-B | 20 | 1 | 42 | 840
Total | 60 |  |  | 32,960

Send comments to Nancy Pearce, SAMHSA Reports Clearance Officer, Room 16-105, Parklawn Building, 5600 Fishers Lane, Rockville, MD 20857. Written comments should be received within 60 days of this notice.

Dated: March 23, 2004.
Anna Marsh,
Executive Officer, SAMHSA.

[FR Doc. 04-6983 Filed 3-29-04; 8:45 am]

BILLING CODE 4162-20-P